DEPARTMENT OF HOUSING AND URBAN DEVELOPMENT

[Docket No. FR-5043-N-03]

Notice of Proposed Information Collection for Public Comment: The Survey of Manufactured Housing Regulations

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: June 23, 2006.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410-6000.

FOR FURTHER INFORMATION CONTACT: Mr. Edwin Stromberg, (202) 708-4370, extension 5727, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology (e.g., permitting electronic submission of responses).

This Notice also lists the following information:

Title of Proposal: Survey of Manufactured Housing Regulations.

Description of the need for the information and proposed use: This request is for the clearance of a survey instrument designed to measure the degree to which local and state regulations affect the placement of manufactured housing (HUD-code homes) in Community Development Block Grant (CDBG) eligible communities. The survey instrument or questionnaire will be mailed to local planning directors or building officials and is designed to be self-administered. The universe will consist of a random sample of CDBG eligible communities across the nation that are in the mid categories of the regulatory severity score (communities that can be considered in a grey-zone where there is greater latitude for interpretation of regulations). The questionnaire is designed to provide qualitative information on the implementation and interpretation of local manufactured housing regulations. The purpose of the survey is to: (1) Gauge an understanding of what extent and what metropolitan jurisdictions allowed manufactured homes in their communities; (2) ascertain how regulations and specific barriers affect the placement of manufactured housing; (3) identify the extent to which various regulations allow interpretation by the planning commission or the local board approving conditional use permits; and (4) determine what restrictions and/or design standards communities place on manufactured housing.

OMB Approval Number: Pending.

Agency form numbers: None.

Members of the Affected Public: Planning directors or building officials.

Estimation of the total number of hours needed to prepare the information collection including number of respondents, frequency of response, and hours of response: 250 planning directors or building officials will be surveyed through a mailed survey. Average time to complete the mailed survey will be 10 minutes. Respondents will be contacted a maximum of three times (an initial mailing, a follow up postcard reminder two weeks following the initial mailing, and a second mailing two weeks following the postcard reminder if no response has been received). Total burden hours are 42 for the initial mailed survey (no additional time will be required as a result of follow up measures).

Status of the proposed information collection: Pending OMB approval.

Authority: Section 3506 of the Paperwork Reduction Act of 1995, 44 U.S.C. Chapter 35, as amended.

Dated: April 12, 2006.
Harold L. Bunce,
Deputy Assistant Secretary for Economic Affairs.

[FR Doc. 06-3837 Filed 4-21-06; 8:45 am]

BILLING CODE 4210-67-M